DEPARTMENT OF THE INTERIOR

Office of the Secretary

[223D0102DM, DS6CS00000, DLSN00000.000000. DX6CS25; OMB Control Number 1093-0012]

Agency Information Collection Activities; Application Requirements for States and Tribes To Apply for Orphaned Well Site Plugging, Remediation, and Restoration Funding Consideration, and Ongoing State and Tribal Reporting Requirements for Funding Recipients

AGENCY: Office of the Secretary of the Interior.

ACTION: Notice of information collection; request for comment.

SUMMARY: In accordance with the Paperwork Reduction Act of 1995 (PRA), the Office of the Secretary of the Interior (Interior), through her delegated office, the Orphaned Wells Program Office (OWPO), proposes to renew and revise an OMB-approved information collection, which is numbered OMB Control Number 1093-0012.

DATES: Interested parties are invited to submit comments on or before July 1, 2024.

ADDRESSES: Written comments and recommendations for the proposed information collection should be sent to Jeffrey Parrillo, Departmental Information Collection Clearance Officer, U.S. Department of the Interior, 1849 C Street NW, Washington, DC 20240; or by email to DOI-PRA@ios.doi.gov. Please reference OMB Control Number “1093-0012 Orphaned Well Program Office” in the subject line of your comments.

FOR FURTHER INFORMATION CONTACT: To request additional information about this proposed information collection, please contact Ron Lev, Management and Program Analyst, OWPO, by email, at orphanedwells@ios.doi.gov, or by phone, at (771) 233-5722.

Individuals in the United States who are deaf, deafblind, hard of hearing, or have a speech disability may dial 711 (TTY, TDD, or TeleBraille) to access telecommunications relay services. Individuals outside of the United States should use the relay services offered within their country to make international calls to the point-of-contact in the United States.

SUPPLEMENTARY INFORMATION: In accordance with the PRA and 5 CFR 1320.8, all information collections require approval. Interior may not conduct or sponsor, and a party is not required to respond to, a collection of information unless the collection displays a currently valid OMB control number.

As part of its continuing effort to reduce paperwork and respondent burdens, Interior invites the public and other Federal agencies to comment on new, proposed, revised, and continuing collections of information. This helps Interior assess the impact of its information collection requirements and minimize the public's reporting burden. It also helps the public understand Interior's information collection requirements and provide the requested data in the desired format.

Interior is especially interested in public comment concerning:

(1) Whether or not the collection of information is necessary for the proper performance of the functions of the agency, including whether or not the information will have practical utility;

(2) The accuracy of the estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments submitted in response to this notice are a matter of public record. Interior will include or summarize each comment in its request to the OMB to approve this information collection request. Before commenters include their respective addresses, phone numbers, email addresses, or other personal identifying information in their comments, they should be aware that entire comments—including any personally identifying information—may be made publicly available at any time. While a commenter may request that personal identifying information be withheld from public review, Interior cannot guarantee that it will be able to do so.

Abstract: Infrastructure Investment and Jobs Act (Pub. L. 117-58) (November 15, 2021), section 40601, “Orphaned well site plugging, remediation, and restoration,” which is also known as the Bipartisan Infrastructure Law (BIL), amends section 349 of the Energy Policy Act of 2005 (42 U.S.C. 15907). Section 40601 designates Interior as the key agency responsible for implementing grant and other financial assistance programs for applicable government entities to plug, remediate, and reclaim orphaned wells on lands covered by the BIL. The associated investments will rebuild America's critical infrastructure, tackle the climate crisis, advance environmental justice, and drive the creation of good-paying union jobs.

Interior will issue financial assistance through grant awards to State and Tribal governments under Assistance Listing (CFDA) program 15.018 Energy Community Revitalization Program (ECRP). With respect to Tribal In Lieu of Grant Assistance, OWPO will coordinate with the Bureau of Indian Affairs. The authority for the above assistance is the Infrastructure Investment and Jobs Act, Division D, Title VI, Section 40601.

The types of assistance contained in section 40601 are as follows:

1. Initial Grants to States

2. Formula Grants to States

3. Performance Grants to States, which includes:

• Regulatory Improvement Grants to States

• Matching Grants to States

4. Grants to Tribes and Tribal In Lieu of Grant Assistance

The BIL requires Interior to collect information necessary to ensure that awarded grant and other assistance funds authorized by this legislation are used in accordance with the BIL, Federal assistance requirements (i.e., 2 CFR part 200), and other applicable Federal law and authorities. Interior anticipates that most of the information will be collected by the OWPO, which has and will issue guidance concerning the above assistance programs. Interior seeks OMB approval of the proposed information collection to manage and monitor financial assistance applications and awards to ensure that States and Tribes comply with the BIL, 2 CFR part 200, and other applicable Federal law and authorities.

Consolidated Workplan

Interior proposes to collect the following from all State and Tribal grant applicants, unless noted otherwise, as part of each entity's consolidated workplan:

(a) An applicant's process for determining a well has been orphaned, including what efforts will be made to redeem financial assurances or otherwise recoup remediation costs from any responsible parties;

(b) A description of an applicant's plugging standards, including the witnessing requirements (e.g., qualifications of witness, documentation);

(c) An applicant's prioritization process for evaluating and ranking orphan wells and associated surface reclamation, including criteria, weighting, and how such prioritization will address resource and financial risk, public health and safety, potential environmental harm (including methane emissions where applicable), and other land use priorities;

(d) If no prioritization process currently exists, an applicant's description of its plans to develop and implement a prioritization process;

(e) Details of how a State applicant will identify and address any disproportionate burden of adverse human health or environmental effects of orphaned wells on disadvantaged communities, low-income communities, and Tribal and indigenous communities;

(f) How applicants will identify and incorporate into their work plans health, safety, habitat, and environmental benefits of plugging, remediating, or reclamation of orphaned wells (Proposed revision);

(g) The methodology to be used by the applicant to measure and track methane and other gases associated with orphaned wells, including how the applicant will confirm the effectiveness of plugging activities in reducing or eliminating such emissions;

(h) The methodology to be used by the applicant to measure and track contamination of groundwater and surface water associated with orphaned wells, including how the applicant will confirm the effectiveness of plugging activities in reducing or eliminating such contamination;

(i) The methodology to be used to decommission or remove associated pipelines, facilities, and infrastructure and to remediate soil and restore habitat that has been degraded due to the presence of orphaned wells and associated infrastructure;

(j) Methods the applicant will use to solicit recommendations from local officials and the public regarding the prioritization of well plugging and site remediation activities, and any other processes the applicant will use to solicit feedback on the program from local officials and the public;

(k) Latitude/Longitude and all other data elements and associated units of measure as indicated in State and Tribal data reporting templates. See the Data Associated with Wells Plugged Using Federal BIL Funds portion of this proposed information collection;

(l) How the applicant will use funding to locate currently undocumented orphaned wells;

(m) Plans the applicant has to engage third parties in partnerships around well plugging and site remediation, or any existing similar partnerships the applicant currently belongs to;

(n) Training programs, registered apprenticeships, and local and economic hire agreements for workers the applicant intends to conduct or fund in well plugging or site remediation;

(o) Plans the applicant has to support opportunities for all workers, including workers underrepresented in well plugging or site remediation, to be trained and placed in good-paying jobs directly related to the project;

(p) For State applicants, plans the State applicant has to incorporate equity for underserved communities into their planning, including supporting the expansion of high-quality, good paying jobs through workforce development programs and incorporating workforce strategy into project development;

(q) Procedures the applicant will use to coordinate with Federal, State, or Tribal agencies to determine whether efficiencies may exist by combining field survey, plugging, or surface remediation work across lands covered by the BIL;

(r) The applicant's authorities to enter private property, or an applicant's procedures to obtain landowner consent to enter private property, in the event that any wells to be plugged will be accessed from privately owned surface;

(s) A work schedule covering the period of performance for the grant;

(t) If applicable, a federally approved Indirect Cost Rate Agreement or statement regarding applicant's intention to negotiate or utilize the de minimis rate;

(u) How an applicant will assist Interior to ensure that activities funded by the grant it applied for will comply with relevant Federal law and authorities, such as the Endangered Species Act of 1973, as amended (ESA), and the National Historic Preservation Act, as amended (NHPA) (Proposed revision);

(v) For Performance Grants, how a State applicant will place a higher priority on the use of the Federal funds to lower unemployment in the State, including workforce development activities related to orphaned well plugging, remediation, and reclamation (Proposed revision); and

(w) For Performance Grants, how a State applicant will place a higher priority on the use of the Federal funds to improve economic conditions in economically distressed areas of the State, provided the use of the funds is related to orphaned well plugging, remediation, and reclamation (Proposed revision).

Regulatory Improvement Grants—State Applicants Only

(Proposed Revision)

Under Section 40601(c)(5)(E)(i), a Regulatory Improvement Grant (RIG) may be awarded to an eligible State if either: (1) “The State has strengthened plugging standards and procedures designed to ensure that wells located in the State are plugged in an effective manner that protects groundwater and other natural resources, public health and safety, and the environment” (Plugging Standards RIG); or (2) “The State has made improvements to State programs designed to reduce future orphaned well burdens, such as financial assurance reform, alternative funding mechanisms for orphaned well programs, and reforms to programs relating to well transfer or temporary abandonment” (Program Standards RIG). In addition to a consolidated workplan, and other information required from RIG applicants that is discussed in this proposed information collection, Interior proposes to collect the following from applicants.

Plugging Standards RIGs: Interior proposes to collect from Plugging Standards RIG applicants information pertaining to their statutes, regulations, policies, and procedures, which were implemented during the 10-year period specified in the BIL, that demonstrate the “State has strengthened plugging standards and procedures designed to ensure that wells located in the State are plugged in an effective manner that protects groundwater and other natural resources, public health and safety, and the environment.” The list, (a) through (j), below, are examples of information Interior proposes to collect. In determining whether a “State has strengthened plugging standards and procedures,” Interior may request additional types of information.

(a) Drilling well construction, and the resulting actual or anticipated positive effects, or documentation, that demonstrate the State's intent to ensure that wells located in the State are plugged in an effective manner that protects groundwater and other natural resources, public health and safety, and the environment.

(b) Allowable well control equipment to manage actions of perforating, cutting/pulling of casing, or retrieving seal assemblies, and the resulting actual or anticipated positive effects, or documentation, that demonstrate the State's intent to ensure that wells located in the State are plugged in an effective manner that protects groundwater and other natural resources, public health and safety, and the environment.

(c) Allowable barrier types, and the resulting actual or anticipated positive effects, or documentation, that demonstrate the State's intent to ensure that wells located in the State are plugged in an effective manner that protects groundwater and other natural resources, public health and safety, and the environment.

(d) Allowable barrier placement locations, and the resulting actual or anticipated positive effects, or documentation, that demonstrate the State's intent to ensure that wells located in the State are plugged in an effective manner that protects groundwater and other natural resources, public health and safety, and the environment.

(e) Allowable barrier placement techniques, and the resulting actual or anticipated positive effects, or documentation, that demonstrate the State's intent to ensure that wells located in the State are plugged in an effective manner that protects groundwater and other natural resources, public health and safety, and the environment.

(f) Wellbore integrity and barrier verification, and the resulting actual or anticipated positive effects, or documentation, that demonstrate the State's intent to ensure that wells located in the State are plugged in an effective manner that protects groundwater and other natural resources, public health and safety, and the environment.

(g) Spacer medium between well barriers, and the resulting actual or anticipated positive effects, or documentation, that demonstrate the State's intent to ensure that wells located in the State are plugged in an effective manner that protects groundwater and other natural resources, public health and safety, and the environment.

(h) Wellbore capping requirements, and the resulting actual or anticipated positive effects, or documentation, that demonstrate the State's intent to ensure that wells located in the State are plugged in an effective manner that protects groundwater and other natural resources, public health and safety, and the environment.

(i) Plugging procedure approval requirements, plugging procedure changes, plugging operations notification requirements, post-plugging reporting requirements, alternative materials or methods, and the resulting actual or anticipated positive effects of these changes, or documentation, that demonstrate the State's intent to ensure that wells located in the State are plugged in an effective manner that protects groundwater and other natural resources, public health and safety, and the environment.

(j) Internal inspection and oversight, and long-term monitoring of plugged wells processes, and the resulting actual or anticipated positive effects, or documentation, that demonstrate the State's intent to ensure that wells located in the State are plugged in an effective manner that protects groundwater and other natural resources, public health and safety, and the environment.

For Program Standards RIGs: Interior proposes to collect from Program Standards RIG applicants information pertaining to their statutes, regulations, policies, and procedures, which were implemented during the 10-year period specified in the BIL, that demonstrate the “State has made improvements to State programs designed to reduce future orphaned well burdens, such as financial assurance reform, alternative funding mechanisms for orphaned well programs, and reforms to programs relating to well transfer or temporary abandonment.” The list, (a) through (g), below, are examples of information Interior proposes to collect. In determining whether a “State has made improvements to State programs designed to reduce future orphaned well burdens,” Interior may request additional types of information.

(a) Liable parties, scope of liability, and state access (e.g., non-operator liable parties, predecessor in interest liability, and state targeting of liable parties through increased or enhanced enforcement), and the resulting actual or anticipated positive effects, or documentation, that demonstrate the State's intent to reduce future orphaned well burdens.

(b) Transfers of interest (e.g., notice of transfer to state from transferor and transferee, state assessment of transferor and/or transferee, and transferor maintenance of assurance), and the resulting actual or anticipated positive effects, or documentation, that demonstrate the State's intent to reduce future orphaned well burdens.

(c) Financial Assurance (e.g., bonding adjusted for field, well, or operator risks), and the resulting actual or anticipated positive effects, or documentation, that demonstrate the State's intent to reduce future orphaned well burdens, including considerations for idle, marginal, and producing wells.

(d) Non-assurance State financial protections and plugging incentives (e.g., fees, taxes, penalties (including increased or enhanced enforcement), and incentives), and the resulting actual or anticipated positive effects, or documentation, that demonstrate the State's intent to reduce future orphaned well burdens, including considerations for idle, marginal, and producing wells.

(e) Reporting and public notice of orphaned or potentially orphaned wells (e.g., reporting mechanisms, for responsible parties, online notice of aggregate financial assurance, and online notice of marginal, orphaned, and all other wells by responsible party), and the resulting actual or anticipated positive effects, or documentation, that demonstrate the State's intent to reduce future orphaned well burdens, including considerations for idle, marginal, and producing wells.

(f) Consideration for air, groundwater, and other natural resources, as well as public safety and environmental justice (e.g., considerations for surface and groundwater or soil, including hazardous materials or other contamination, special considerations for oil and gas wells converted to water wells, and considerations for public safety and environmental justice), and the resulting actual or anticipated positive effects, or documentation, that demonstrate the State's intent to reduce future orphaned well burdens, including considerations for idle, marginal, and producing wells.

(g) Orphaned-wells-related internal and external workforce development (e.g., State internal workforce enhancements, State contracting process, and oversight of State vendors, including certificate programs), and the resulting actual or anticipated positive effects, or documentation, that demonstrate the State's intent to reduce future orphaned well burdens.

For both Plugging Standards and Program Standards Applications: For all Plugging Standards and Program Standards RIG applicants, Interior also proposes to collect the following:

Scoring Template: A list of questions related to the specific type of RIG they are applying for in a scoring template (e.g., “Yes” or “No”). Applicants will also need to provide support for the scoring template that they submit.

Interior will use the requested information to determine grant eligibility, including eligible amount, and to ensure that program objectives are being met, evaluate the applicant's readiness to obligate grant funds, and evaluate the applicant's approach to execute grant objectives and the grant-funded work that will be monitored by Interior.

Grant Applications

Interior proposes to collect the following additional elements from applicants:

• Standard forms (SF) from the SF-424 Series: Applicants must submit the following SF-424 series of forms:

○ SF-424, Application for Federal Assistance;

○ SF-424A, Budget Information for Non-Construction Programs or SF-424C Budget Information for Construction Program, or both;

○ SF-424B, Assurances for Non-Construction Programs) or SF-424D Assurances for Construction Programs);

○ SF-428 Tangible Personal Property Report; and

○ SF-LLL, Disclosure of Lobbying Activities, when applicable).

• Indirect Cost Statement: If requesting reimbursement for indirect costs, all applicants must include in their application a statement regarding how they anticipate charging indirect costs.

• Budget Narrative and/or Template: Applicants must provide a narrative and/or template that describes and justifies, with sufficient detail, the requested budget items and costs, and provides a description of how the applicant determined its totals by cost category in their application (Proposed revision).

• Negotiated Indirect Cost Rate Agreement (NICRA): When applicable, a copy of the applicant's current federal-agency-approved Negotiated Indirect Cost Rate Agreement is required.

• Single Audit Reporting Statement: All U.S. governmental entities and non-profit applicants must submit a statement regarding their single audit reporting status.

• Conflict of Interest Disclosures: Applicants must notify the Interior in writing of any actual or potential conflicts of interest known at the time of application or that may arise during the life of this award, in the event the Interior makes an award to the entity.

• Certification Statement: State applicants for the Initial Grant part of this program must provide a signed State Certification statement consistent with Section 40601(c)(3)(A)(ii)(III) or 40601(c)(3)(A)(i)(II) of the BIL. State and Tribal Applicants may also be required to submit other certifications for other grant programs, consistent with guidance issued by the OWPO.

Tribal In Lieu of Grant Assistance Requests—Tribal Applicants Only

(Proposed Revision)

Tribes, in lieu of grant assistance, may request that Interior administer and carry out plugging, remediation, and reclamation activities related to eligible orphaned wells on behalf of the Tribe. Interior proposes to collect the following information to evaluate and administer such requests:

• A letter of request for assistance, from the Tribe, bearing the signature of the authorized representative of the Tribe's governing body;

• A description of activities (e.g., plugging and abandonment, remediation, and/or reclamation) for which the Tribe is requesting assistance;

• A brief description of the Tribe's territories, including the number and locations of known orphan wells; and

• A summary of known supporting data or information, including existing inventories and assessments and environmental compliance documents.

Amendments

For many budget and program plan revisions, 2 CFR part 200 requires recipients submit revision requests to the Federal awarding agency in writing for prior approval. Interior reviews such requests received to determine the eligibility and allowability of new or revised activities and costs and approves certain items of cost.

Reporting/Recordkeeping Requirements

To ensure that activities funded by Section 40601 are consistent with the BIL, 2 CFR part 200, and other Federal law and authorities, Interior proposes to collect the following information from all grant and other funding recipients:

• Financial Reports: Recipients are required to submit all financial reports on the Standard Form 425, Federal Financial Report. Recipients must submit financial reports in accordance with 2 CFR part 200. The frequency of submission may vary but will typically be annually or semi-annually. Interior, however, may require submission of financial reports more frequently in certain circumstances, such as where more frequent reporting is necessary for the effective monitoring of the Federal award or could significantly affect program outcomes (Frequency is proposed revision).

• Performance Reports: Recipients must submit performance reports in accordance with 2 CFR part 200. This information is necessary for Interior to track accomplishments and performance-related data. Interior uses these reports to ensure that the recipient is accomplishing its work on schedule, and to identify any problems that the recipient may be experiencing in accomplishing the work. While the frequency of performance reporting may vary, recipients typically will be required to submit their performance reports annually or semi-annually. Interior, however, may require the submission of these reports more frequently in certain circumstance, such as where more frequent reporting is necessary for the effective monitoring of the Federal award or could significantly affect program outcomes (Frequency is proposed revision).

Performance reports must include:

○ A comparison of actual accomplishments to the goals and objectives established for the reporting period, the results/findings, or both;

○ If the goals and objectives were not met, the reasons why, including analysis and explanation of cost overruns or high unit costs compared to the benefit received to reach an objective;

○ Performance trend data and analysis to be used by the awarding program to monitor and assess recipient and Federal awarding program performance;

○ Consolidated long-term work plan and accomplishments updates, when award is part of a large scale or long-term effort funded under multiple awards over time; and

○ Other information that Interior requires to track State and Tribal accomplishments, collect performance-related data, identify and risks and failure to achieve certain milestones, and is otherwise necessary to ensure that the State's or Tribe's actions comply with the relevant guidance issued by the OWPO (Proposed revision).

• Final 15-month Report for State Initial Grants: As required in the BIL, State recipients under the Initial Grants part of the program must submit a report no later than 15 months after the date on which the State receives the funds, describing the means by which the State used the funds in accordance with its application and certification, and including the reporting parameters described in this guidance.

• Recordkeeping Requirements: Recipients must retain financial records, supporting documents, statistical records, and all other records pertinent to a Federal award, per 2 CFR part 200 requirements.

• Data Associated with Wells Plugged Using Federal BIL Funds: Recipients must periodically provide data, which upon Interior's request, may include pictures, video, or other media, for any well plugged with BIL funds. This may include data associated with reclamation or restoration of land or infrastructure associated with a well (Proposed revision).

Upon request, but no more frequently than annually, recipients must submit requested information related to aggregate orphaned-well data (e.g., the total number of documented orphaned wells located in a State, and the rationale for why the orphaned well inventory has increased or decreased during a certain time period). Interior will use this information to evaluate the effectiveness of the programs funded by the BIL.

• Information Concerning State or Tribal Unmet Needs: When requested, States and Tribes must submit requested information related to unmet needs for orphaned well plugging, the decommission or removal of the associated infrastructure, and the restoration and reclamation of the lands, surface water, ground water, or other natural resources that are impacted or potentially impacted. States or Tribes may also be required to provide information regarding employment and economically distressed areas, or environmental justice (Proposed revision).

• Compliance with Environmental and Other Statutes: Recipients must submit information to Interior to allow Interior to ensure that Federal BIL funds are utilized in a manner that is consistent applicable Federal law, such as the ESA and NHPA, and other authorities and policy (Proposed revision).

• Change in RIG Eligibility (Scoring Template): During the ten-year period that begins on the date of receipt of the grant funds, each RIG recipient must periodically (e.g., annually) submit an updated Scoring Template. This submission will allow Interior to ensure that the State recipient is not required to reimburse Interior for all or a portion of its RIG for “failure to maintain protections,” under Section 40601(c)(5)(E)(iii). Recipients will also be required to submit documentation that supports any changes between the submitted Scoring Template and the one that was previously submitted (Proposed revision).

• Interior also proposes to rename the information collection from Application Requirement for States to Apply for Orphaned Well Site Plugging, Remediation, and Restoration Grant Consideration to Application Requirements for States and Tribes to Apply for Orphaned Well Site Plugging, Remediation, and Restoration Funding Consideration, and Ongoing State and Tribal Reporting Requirements for Funding Recipients (Proposed revision).

Title of Collection: Application Requirements for States and Tribes to Apply for Orphaned Well Site Plugging, Remediation, and Restoration Funding Consideration, and Ongoing State and Tribal Reporting Requirements for Funding Recipients.

OMB Control Number: 1093-0012.

Form Number: None.

Type of Review: Revision and extension of a currently approved collection.

Respondents/Affected Public: Up to 92 (27 State and 65 Tribal governments).

Respondent's Obligation: Required to obtain or retain a benefit.

Frequency of Collection: On occasion

Total Estimated Annual Non-hour Burden Cost: None.

Additional burden estimates for this revision request (see three tables below)

One-Time Burden Estimates

Annual Burden Estimates

Non-Grant Related Burden Estimates

An agency may not conduct or sponsor and a person is not required to respond to a collection of information unless it displays a currently valid OMB control number.

The authority for this action is the Paperwork Reduction Act and 5 CFR 1320.8(d)(1).

Jeffrey Parrillo,
Departmental Information Collection Clearance Officer.

[FR Doc. 2024-09525 Filed 5-1-24; 8:45 am]

BILLING CODE 4334-63-P